NATIONAL AERONAUTUICS AND SPACE ADMINISTRATION

[Notice (15-079)]

Notice of Intent To Grant a Partially Exclusive License

AGENCY: National Aeronautics and Space Administration.

ACTION: Notice of intent To Grant Partially Exclusive License.

SUMMARY: This notice is issued in accordance with 35 U.S.C. 209(e) and 37 CFR 404.7(a)(1)(i). NASA hereby gives notice of its intent to grant a partially exclusive license in the United States to practice the invention described and claimed in U.S. Non-Provisional Patent Application Serial No. 13/178,661, titled “Automatic Dependent Surveillance Broadcast (ADS-B) System For Ownership and Traffic Situational Awareness,” NASA Case No. DRC-011-012, and any, divisional applications, continuation-in-part applications, or issued patents resulting therefrom, to Vigilant Aerospace Systems Inc., having its principal place of business in Oklahoma City, Oklahoma. Certain patent rights in this invention have been assigned to the United States of America as represented by the Administrator of the National Aeronautics and Space Administration. The prospective partially exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR. 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to Patent Counsel, NASA Management Office, 4800 Oak Grove Drive, M/S 180-200, Pasadena, CA 91109; (818) 354-7770 (phone), (818) 393-3160 (fax).

FOR FURTHER INFORMATION CONTACT: Mark Homer, Patent Counsel, Office of Chief Counsel, NASA Management Office, 4800 Oak Grove Drive, M/S 180-200, Pasadena, CA 91109; (818) 354-7770 (phone), (818) 393-3160 (fax). Information about other NASA inventions available for licensing can be found online at http://technology.nasa.gov.

Mark P. Dvorscak,
Agency Counsel for Intellectual Property.

[FR Doc. 2015-24147 Filed 9-22-15; 8:45 am]

BILLING CODE 7510-13-P